DEPARTMENT OF VETERANS AFFAIRS

Solicitation of Nominations for Appointment to the Advisory Committee on Prosthetics and Special-Disabilities Programs

AGENCY: Department of Veterans Affairs.

ACTION: Notice.

SUMMARY: The Department of Veterans Affairs (VA), Veterans Health Administration (VHA), is seeking nominations of qualified candidates to be considered for appointment as a member of the Advisory Committee on Prosthetics and Special-Disabilities Programs (herein-after in this section referred to as “the Committee”). The Committee was established pursuant to 38 U.S.C. 543 to advise the Secretary of VA on administration of Department's prosthetic and special-disabilities programs, coordination of VA and non-VA programs to develop and test prosthetic devices, and coordination of the informational exchange regarding development and testing of prosthetic devices. The Committee will consult with the Secretary on adequate funding and the treatment capacity for those programs.

DATES: Nominations for membership on the Committee must be received no later than 5:00 p.m. EDT on July 3, 2015.

ADDRESSES: All nominations should be mailed to the Department of Veterans Affairs, Rehabilitation and Prosthetic Services (10P4R), 810 Vermont Ave. NW., Washington, DC 20420, or faxed to (202) 495-5473. Note: This is not a toll-free fax line.

FOR FURTHER INFORMATION CONTACT: Mr. Larry N. Long, Department of Veterans Affairs, Office of Rehabilitation and Prosthetic Services (10P4R), 810 Vermont Avenue NW., Washington, DC 20420, telephone (202) 461-7354. A copy of the Committee charter and list of the current membership can be obtained by contacting Mr. Long.

SUPPLEMENTARY INFORMATION: The Advisory Committee on Prosthetics and Special-Disabilities Programs was established pursuant to 38 U.S.C. 543 to advise the Secretary on VA's prosthetic programs designed to provide state-of-the-art prosthetics and the associated rehabilitation research, development and evaluation of such technology. The Committee will also advise the Secretary on special-disability programs (as directed by 38 U.S.C. 543) which are defined as any program administered by the Secretary to serve Veterans with spinal cord injury, blindness or vision impairment, loss of or loss of use of extremities, deafness or hearing impairment, or other serious incapacities in terms of daily life functions. The Veterans' Health Care Eligibility Reform Act of 1996 requires VA to consult with the Committee concerning VA's effort to maintain capacity to provide for the specialized treatment and rehabilitative needs of disabled Veterans within distinct programs or facilities of the Department.

VHA is requesting nominations for upcoming vacancies on the Committee. The Committee is currently composed of 12 members. The members of the Committee are appointed by the Secretary of Veteran Affairs from the general public, including but not limited to:

(1) Veterans or other individuals who are recognized authorities in fields pertinent to the needs of Veterans;

(2) Veterans who have experience in a military theater of operations;

(3) Recently separated Veterans.

The Secretary shall determine the number, terms of service, and pay and allowances of members of the Committee appointed by the Secretary, except that a term of service of any such member may not exceed four years. The Secretary may reappoint any such member for additional terms of service.

To the extent possible, the Secretary seeks members who have diverse professional and personal qualifications, including but not limited to prior military experience and military deployments, experience working with Veterans and in large and complex organizations, and subject matter expertise in the subject areas described above. We ask that nominations include information of this type so that VA can ensure a balanced Committee membership.

Requirements for Nomination Submission: Nominations should be typed (one nomination per nominator). Nomination package should include: (1) A letter of nomination that clearly states the name and affiliation of the nominee, the basis for the nomination (i.e. specific attributes which qualify the nominee for service in this capacity), and a statement from the nominee indicating the willingness to serve as a member of the Committee; (2) the nominee's contact information, including name, mailing address, telephone numbers, and email address; (3) the nominee's curriculum vitae; and (4) a summary of the nominee's experience and qualifications relative to the membership considerations described above; and (5) a statement confirming that he/she is not a federally-registered lobbyist. Individuals selected for appointment to the Committee shall be invited to serve a two-year term. Committee members will receive a stipend for attending Committee meetings, including per diem and reimbursement for travel expenses incurred, subject to Federal travel regulations. The Department makes every effort to ensure that the membership of VA federal advisory committees is fairly balanced in terms of points of view represented and the committee's function. Appointments to this Committee shall be made without discrimination because of a person's race, color, religion, sex, sexual orientation, gender identify, national origin, age, disability, or genetic information. Nominations must state that the nominee is willing to serve as a member of the Committee and appears to have no conflict of interest that would preclude membership. An ethics review is conducted for each selected nominee.

Dated: June 2, 2015.
Rebecca Schiller,
Advisory Committee Management Officer.

[FR Doc. 2015-13744 Filed 6-4-15; 8:45 am]

BILLING CODE 8320-01-P